DEPARTMENT OF COMMERCE

Foreign-Trade Zones Board

[B-63-2017]

Foreign-Trade Zone (FTZ) 123—Denver, Colorado; Notification of Proposed Production Activity; Lockheed Martin Corporation Space Systems Company; (Satellites and Other Space Craft); Littleton, Colorado

Lockheed Martin Corporation Space Systems Company (Lockheed Martin), submitted a notification of proposed production activity to the FTZ Board for its facility in Littleton, Colorado. The notification conforming to the requirements of the regulations of the FTZ Board (15 CFR 400.22) was received on October 4, 2017.

A separate application for subzone designation for the Lockheed Martin facility under FTZ 123 is being processed (see docket S-151-2017).

The facility will be used to produce satellites and other spacecraft for space-based use. Pursuant to 15 CFR 400.14(b), FTZ activity would be limited to the specific foreign-status materials and components and specific finished products described in the submitted notification (as described below) and subsequently authorized by the FTZ Board.

Production under FTZ procedures could exempt Lockheed Martin from customs duty payments on the foreign-status components used in export production. On its domestic sales, for the foreign-status materials/components noted below, Lockheed Martin would be able to choose the duty rates during customs entry procedures that apply to: Satellites and other craft for space-based use and subsystems for satellites and other space craft (duty free). Lockheed Martin would be able to avoid duty on foreign-status components which become scrap/waste. Customs duties also could possibly be deferred or reduced on foreign-status production equipment.

The components and materials sourced from abroad include: 80% hydrogen/20% argon gas; dinitrogen tetroxide (oxidizer); high purity hydrazine; plastic composite test panels; carbon composite panels; mechanically joined cylindrical sandwich panels, composite ogive sandwich panels; optical solar reflectors; protective cover glasses for gallium-arsenide solar cells; liquid apogee rocket engines; dual mode liquid apogee rocket engines; communication receivers; base station transceivers; Ku-band receivers; controllers for low noise amplifier block converter; Ka-band phased loop lock dual band low noise amplifier and block converter; transceivers; optical filters-fiber bragg grating; microwave power module band stop filters, Ku-band; signal converters; multiplexers (mux's) includes diplexers; signal filters; input filter assemblies; redundant low noise amplifiers; downconverters; beacon transmitters; Ka-band beacons; Ka-band input filter assemblies; communication receivers; command receivers; antennas; antenna reflectors; antenna assemblies; antenna mast electro-mechanical assemblies; power supply boards; radio frequency switches; post down converter filter assemblies; output switch matrix; Ka-band combiners; dual couplers; electrical switches; electrical connectors; connector savers; electrical switching modules; microchip programmers; wave guides (coaxial); circuit breaker assemblies; bulkhead receptacles; electrical switches (coaxial); radio frequency switch assembly/gen iv test racks; traveling wave tubes (TWT); gallium-arsenide solar cells; optical solar reflectors; quadrant detectors; surface acoustic wave filters; field programmable gate arrays; hybrid integrated circuits; mass simulators; master local oscillators; traveling wave tube amplifiers; transmit receive integrated assembly amplifiers; linearized traveling wave tube amplifiers; coaxial combiners; payload separation rings; reaction wheels; star tracker optical heads; star tracker electronics units; earth sensors; baffles for star tracker; thermocouples; radio frequency recording and playback systems; power injector assemblies, and pressure switches (duty rates range from duty-free to 6.5%).

Public comment is invited from interested parties. Submissions shall be addressed to the Board's Executive Secretary at the address below. The closing period for their receipt is November 27, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Christopher Wedderburn at Chris.Wedderburn@trade.gov or (202) 482-1963.

Dated: October 13, 2017.
Camille R. Evans,
Acting Executive Secretary.

[FR Doc. 2017-22602 Filed 10-17-17; 8:45 am]

BILLING CODE 3510-DS-P